DEPARTMENT OF COMMERCE

International Trade Administration

[A-570-001]

Potassium Permanganate From the People's Republic of China; 2016; Partial Rescission of the Antidumping Duty Administrative Review

AGENCY: Enforcement and Compliance, International Trade Administration, Department of Commerce.

SUMMARY: On March 15, 2017, the Department of Commerce (the Department) published a notice of initiation of an administrative review of the antidumping duty order on potassium permanganate from the People's Republic of China (PRC). Based on Chongqing Changyuan Group Limited's (Changyuan) timely withdrawal of its request for review, we are now rescinding this administrative review with respect to Changyuan.

DATES: Effective April 27, 2017.

FOR FURTHER INFORMATION CONTACT: Kabir Archuletta, AD/CVD Operations, Office V, Enforcement and Compliance, International Trade Administration, U.S. Department of Commerce, 1401 Constitution Avenue NW., Washington, DC 20230; telephone (202) 482-2593.

Background

On January 10, 2017, the Department published a notice of “Opportunity to Request Administrative Review” of the antidumping duty order on potassium permanganate from the PRC.¹ On January 31, 2017, the Department received timely requests to conduct an administrative review of the antidumping duty order on potassium permanganate from the PRC from Pacific Accelerator Limited (PAL) and Changyuan.² Based upon those requests, on March 15, 2017, in accordance with section 751(a) or the Tariff Act of 1930, as amended (the Act), the Department published a notice of initiation of an administrative review of the Order ³ covering the period January 1, 2016, to December 31, 2016.⁴ The Department initiated the administrative review with respect to PAL and Changyuan.⁵ On April 12, 2017, Changyuan withdrew its request for review.⁶

¹ See Antidumping or Countervailing Duty Order, Finding, or Suspended Investigation; Opportunity to Request Administrative Review, 82 FR 2951 (January 10, 2017).

² See Letter to the Secretary of Commerce from PAL and Changyuan “RE: Request for Administrative Review of the Antidumping Duty Order on Potassium Permanganate from the People's Republic of China” (January 31, 2017).

³ See Antidumping Duty Order; Potassium Permanganate from the People's Republic of China, 49 FR 3897 (January 31, 1984) (Order).

⁴ See Initiation of Antidumping and Countervailing Duty Administrative Reviews, 82 FR 13795 (March 15, 2017).

⁵ Id.

⁶ See Letter to the Secretary of Commerce from PAL and Changyuan “Re: Amendment of Administrative Review Request: Antidumping Duty Order on Potassium Permanganate from the People's Republic of China (A-570-001)” (April 12, 2017).

Partial Rescission

Pursuant to 19 CFR 351.213(d)(1), the Secretary will rescind an administrative review, in whole or in part, if a party who requested the review withdraws the request within 90 days of the date of publication of notice of initiation of the requested review. Changyuan timely withdrew its review request and no other party requested a review of Changyuan. Accordingly, we are rescinding this review, in part, with respect to Changyuan, in accordance with 19 CFR 351.213(d)(1). This review will continue with respect to PAL.

Assessment

The Department will instruct U.S. Customs and Border Protection (CBP) to assess antidumping duties on all appropriate entries. For the company for which this review is rescinded, antidumping duties shall be assessed at rates equal to the cash deposit of estimated antidumping duties required at the time of entry, or withdrawal from warehouse, for consumption, in accordance with 19 CFR 351.212(c)(1)(i). The Department intends to issue appropriate assessment instructions directly to CBP 15 days after publication of this notice in the Federal Register.

Notification to Importers

This notice serves as the only reminder to importers for whom this review is being rescinded, as of the publication date of this notice, of their responsibility under 19 CFR 351.402(f)(2) to file a certificate regarding the reimbursement of antidumping duties prior to liquidation of the relevant entries during this review period. Failure to comply with this requirement could result in the presumption that reimbursement of the antidumping duties occurred and the subsequent assessment of double antidumping duties.

Notification Regarding Administrative Protective Orders

This notice also serves as a reminder to parties subject to administrative protective order (APO) of their responsibility concerning the return or destruction of proprietary information disclosed under APO in accordance with 19 CFR 351.305, which continues to govern business proprietary information in this segment of the proceeding. Timely written notification of the return or destruction of APO materials or conversion to judicial protective order is hereby requested. Failure to comply with the regulations and terms of an APO is a violation which is subject to sanction.

Notification to Interested Parties

This notice is issued and published in accordance with sections 751 and 777(i)(l) of the and 19 CFR 351.213(d)(4).

Dated: April 21, 2017.
Gary Taverman,
Associate Deputy Assistant Secretary for Antidumping and Countervailing Duty Operations.

[FR Doc. 2017-08527 Filed 4-26-17; 8:45 am]

BILLING CODE 3510-DS-P